ENVIRONMENTAL PROTECTION AGENCY

40 CFR Part 136

[EPA-HQ-OW-2014-0797; FRL-9926-38-OW]

RIN 2040-AF48

Clean Water Act Methods Update Rule for the Analysis of Effluent; Comment Extension

AGENCY: Environmental Protection Agency (EPA).

ACTION: Proposed rule; extension of the public comment period.

SUMMARY: Environmental Protection Agency (EPA) received requests for an extension of the period for providing comments on the proposed rule entitled, “Clean Water Act Methods Update Rule for the Analysis of Effluent,” published in the Federal Register on February 19, 2015. EPA extends the comment period in order to provide the public additional time to submit comments and supporting information.

DATES: EPA extends the public comment period for the proposed rule published February 19, 2015, (80 FR 8956) to May 20, 2015.

ADDRESSES: Written comments on the proposed rule may be submitted to the EPA electronically, by mail, by facsimile or through hand delivery/courier. Please refer to the proposal (80 FR 8956) for the addresses and detailed instructions.

Docket. Publically available documents relevant to this action are available for public inspection either electronically at http://www.regulations.gov or in hard copy at the Water Docket in the EPA Docket Center, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426. The EPA has established the official public docket No. EPA-HQ-OW-2014-0797.

FOR FURTHER INFORMATION CONTACT: Adrian Hanley, Engineering and Analysis Division (4303T), Office of Water, Environmental Protection Agency, 1200 Pennsylvania Ave. NW., Washington, DC 20460-0001; telephone: (202) 564-1564; email: hanley.adrian@epa.gov.

SUPPLEMENTARY INFORMATION:

Comment Period

The EPA is extending the previously announced public-comment period. The public comment period will end on May 20, 2015, rather than April 20, 2015. This will ensure that the public has sufficient time to review and comment on all of the information available, including the proposed rule and other materials in the docket.

List of Subjects in 40 CFR Part 136

Environmental protection, Incorporation by reference, Reporting and recordkeeping requirements, Test procedures, Water pollution control.

Dated: April 9, 2015.
Kenneth J. Kopocis,
Deputy Assistant Administrator, Office of Water.

[FR Doc. 2015-08890 Filed 4-17-15; 8:45 am]

BILLING CODE 6560-50-P